DEPARTMENT OF COMMERCE

International Trade Administration

[A-583-849, A-552-812, C-552-813]

Steel Wire Garment Hangers From Taiwan and the Socialist Republic of Vietnam: Continuation of Antidumping Duty Orders and Countervailing Duty Order

AGENCY: Enforcement and Compliance, International Trade Administration, Department of Commerce.

SUMMARY: As a result of the determinations by the U.S. Department of Commerce (Commerce) and the U.S. International Trade Commission (ITC) that revocation of the antidumping duty (AD) orders on steel wire garment hangers (hangers) from Taiwan and the Socialist Republic of Vietnam (Vietnam), and the countervailing duty (CVD) order on hangers from Vietnam would likely lead to the continuation or recurrence of dumping, countervailable subsidies, and material injury to an industry in the United States, Commerce is publishing a notice of continuation of these AD orders and this CVD order.

DATES: Applicable October 4, 2023.

FOR FURTHER INFORMATION CONTACT: Kabir Archuletta, AD/CVD Operations, Office V, Enforcement and Compliance, International Trade Administration, U.S. Department of Commerce, 1401 Constitution Avenue NW, Washington, DC 20230; telephone: (202) 482-2593.

SUPPLEMENTARY INFORMATION:

Background

On December 10, 2012, and February 5, 2013, Commerce published in the Federal Register the AD and CVD orders on hangers from Vietnam and the AD order on hangers from Taiwan.¹ On April 3, 2023, the ITC instituted,² and Commerce initiated,³ the second sunset review of the Orders, pursuant to section 751(c) of the Tariff Act of 1930, as amended (the Act). As a result of its reviews, Commerce determined that revocation of the Orders would likely lead to the continuation or recurrence of dumping and countervailable subsidies, and therefore, notified the ITC of the magnitude of the margins of dumping and subsidy rates likely to prevail should the Orders be revoked.⁴

¹ See Steel Wire Garment Hangers from Taiwan: Antidumping Duty Order, 77 FR 73424 (December 10, 2012); Steel Wire Garment Hangers from the Socialist Republic of Vietnam: Antidumping Duty Order, 78 FR 8105 (February 5, 2013); and Certain Steel Wire Garment Hangers from the Socialist Republic of Vietnam: Countervailing Duty Order, 78 FR 8107 (February 5, 2013) (collectively, Orders).

² See Steel Wire Garment Hangers from Taiwan and Vietnam; Institution of Five-Year Reviews, 88 FR 19669 (April 3, 2023).

³ See Initiation of Five-Year (Sunset) Reviews, 88 FR 19616 (April 3, 2023).

⁴ See Steel Wire Garment Hangers from Taiwan and the Socialist Republic of Vietnam: Final Results of the Expedited Second Sunset Review of the Antidumping Duty Orders, 88 FR 52123 (August 7, 2023), and accompanying Issues and Decision Memorandum (IDM); and Steel Wire Garment Hangers from the Socialist Republic of Vietnam: Final Results of the Expedited Sunset Review of the Countervailing Duty Order, 88 FR 43550 (July 10, 2023), and accompanying IDM.

On October 4, 2023, the ITC published its determination, pursuant to sections 751(c) and 752(a) of the Act, that revocation of the Orders would likely lead to continuation or recurrence of material injury to an industry in the United States within a reasonably foreseeable time.⁵

⁵ See Steel Wire Garment Hangers from Taiwan and Vietnam; Determinations, 88 FR 68669 (October 4, 2023).

Scope of the Orders

The merchandise subject to the Orders is steel wire garment hangers, fabricated from carbon steel wire, whether or not galvanized or painted, whether or not coated with latex or epoxy or similar gripping materials, and whether or not fashioned with paper covers or capes (with or without printing) or nonslip features such as saddles or tubes. These products may also be referred to by a commercial designation, such as shirt, suit, strut, caped, or latex (industrial) hangers.

Specifically excluded from the scope of the Orders are (a) wooden, plastic, and other garment hangers that are not made of steel wire; (b) steel wire garment hangers with swivel hooks; (c) steel wire garment hangers with clips permanently affixed; and (d) chrome plated steel wire garment hangers with a diameter of 3.4 mm or greater.

The products subject to the Orders are currently classified under U.S. Harmonized Tariff Schedule (HTSUS) subheadings 7326.20.0020 and 7323.99.9080. Although the HTSUS subheadings are provided for convenience and customs purposes, the written description of the merchandise is dispositive.

Continuation of the Orders

As a result of the determinations by Commerce and the ITC that revocation of the Orders would likely lead to continuation or recurrence of dumping, countervailable subsidies, and material injury to an industry in the United States, pursuant to section 751(d)(2) of the Act, Commerce hereby orders the continuation of the Orders. U.S. Customs and Border Protection will continue to collect AD and CVD cash deposits at the rates in effect at the time of entry for all imports of subject merchandise.

The effective date of the continuation of the Orders is October 4, 2023. Pursuant to section 751(c)(2) of the Act and 19 CFR 351.218(c)(2), Commerce intends to initiate the next five-year reviews of the Orders not later than 30 days prior to the fifth anniversary of the date of the last determination by the Commission.⁶

⁶ Id.

Administrative Protective Order (APO)

This notice also serves as the only reminder to parties subject to an APO of their responsibility concerning the return or destruction of proprietary information disclosed under APO in accordance with 19 CFR 351.305(a)(3), which continues to govern business proprietary information in this segment of the proceedings. Timely written notification of the return or destruction of APO materials, or conversion to judicial protective order, is hereby requested. Failure to comply with the regulations and terms of an APO is a violation which is subject to sanction.

Notification to Interested Parties

These five-year (sunset) reviews and this notice are in accordance with sections 751(c) and 751(d)(2) of the Act and published in accordance with section 777(i) of the Act, and 19 CFR 351.218(f)(4).

Dated: October 5, 2023.
Lisa W. Wang,
Assistant Secretary for Enforcement and Compliance.

[FR Doc. 2023-22523 Filed 10-12-23; 8:45 am]

BILLING CODE 3510-DS-P